DEPARTMENT OF TRANSPORTATION

Surface Transportation Board

[STB Finance Docket No. 34203]

Tri-City Railroad Company, L.L.C.—Lease and Operation Exemption—Hanford Site Rail System in Richland, WA

Tri-City Railroad Company, L.L.C. (Tri-City), a Class III rail carrier, has filed a verified notice of exemption ¹ under 49 CFR 1150.41 et seq. to lease and operate 37 miles of rail line, including connecting spur tracks, known as the Tri-City Railroad “Northern Connection,” extending from milepost 28.3 at Horn Rapids Road, to milepost 0 at Susie Junction at the northwest end of the rail line within the U.S. Department of Energy's Hanford Site Rail System, in Richland, WA.

¹ The verified notice was filed on April 30, 2002, and was amended on May 10, 2002.

Tri-City certifies that its projected revenues as a result of this transaction will not result in the creation of a Class II or Class I rail carrier.

The transaction was scheduled to be consummated on or after May 15, 2002.

If the notice contains false or misleading information, the exemption is void ab initio. Petitions to revoke the exemption under 49 U.S.C. 10502(d) may be filed at any time. The filing of a petition to revoke will not automatically stay the transaction.

An original and 10 copies of all pleadings, referring to STB Finance Docket No. 34203, must be filed with the Surface Transportation Board, Case Control Unit, 1925 K Street, NW., Washington, DC 20423-0001. In addition, one copy of each pleading must be served on Randolph Peterson, 2355 Stevens Drive, P.O. Box 1700, Richland, WA 99352.

Board decisions and notices are available on our website at “WWW.STB.DOT.GOV.”

Decided: May 21, 2002.
By the Board, David M. Konschnik, Director, Office of Proceedings.
Vernon A. Williams,
Secretary.

[FR Doc. 02-13385 Filed 5-29-02; 8:45 am]

BILLING CODE 4915-00-P